DEPARTMENT OF THE INTERIOR

Fish and Wildlife Service

Notice of Permit Application and Safe Harbor Agreement Between the Fish and Wildlife Service and Caroline H. Paterson and Thomas W. Paterson

AGENCY: Fish and Wildlife Service, Interior.

ACTION: Notice of availability and 30-day public comment period.

SUMMARY: Caroline H. and Thomas W. Paterson (Applicants) have applied to the U.S. Fish and Wildlife Service (Service) for an incidental take permit pursuant to Section 10(a)(1)(A) of the Endangered Species Act (Act). The Applicants have been assigned permit number TE-035920-0. The requested permit, which is for a period of 30 years, would authorize the take of the following species: endangered southwestern willow flycatcher and Mexican gray wolf; threatened bald eagle, Mexican spotted owl, and loach minnow. The proposed take could occur as a result of conservation measures implemented on Spur Ranch, consisting of riparian restoration activities along Centerfire Creek, including planting native vegetation; grade control structures in Centerfire Creek to control erosion and downcutting; and upland management activities designed to improve overall habitat health, including prescribed burning, selective timber harvesting, and controlled grazing. Currently, none of the species mentioned above are known to occur on the property. The Applicants in cooperation with the Service have prepared the Safe Harbor Agreement (SHA) to provide a conservation benefit to the species and allow for the take of these species. Based upon guidance in the Service's June 17, 1999, Final Safe Harbor Policy, if a SHA and associated permit are not expected to individually or cumulatively have a significant impact on the quality of the human environment or other natural resources, the Agreement/permit may be categorically excluded from undergoing National Environmental Policy Act review. The Spur Ranch SHA qualifies as a “Low Effect” SHA, thus, this action is a categorical exclusion. The “Low Effect” determination for the Spur Ranch SHA is also available for public comment. This notice is provided pursuant to Section 10(c) of the Act and National Environmental Policy Act regulations (40 CFR 1506.6).

DATES: Written comments on the application should be received on or before June 11, 2001.

ADDRESSES: Persons wishing to review the application, SHA, and “Low Effect” determination may obtain copies by writing to the Regional Director, U.S. Fish and Wildlife Service, P.O. Box 1306, Room 4102, Albuquerque, New Mexico 87103, or by contacting Denise Smith, New Mexico Ecological Services Field Office, 2105 Osuna Road, Albuquerque, New Mexico 87113 (505/346-2525). Documents relating to the application will be available for public inspection by written request, by appointment only, during normal business hours (8:00 to 4:30) at the U.S. Fish and Wildlife Service, New Mexico Ecological Services Field Office, Albuquerque, New Mexico.

Written data or comments concerning the application and SHA should be submitted to the Field Supervisor, U.S. Fish and Wildlife Service, New Mexico Ecological Services Field Office, Albuquerque, New Mexico, at the above address. Please refer to permit number TE-035920-0 (Paterson) when submitting comments.

FOR FURTHER INFORMATION CONTACT: Denise Smith at the above U.S. Fish and Wildlife Service, New Mexico Ecological Services Field Office, Albuquerque, New Mexico (505) 346-2525.

SUPPLEMENTARY INFORMATION:

Background

Caroline H. and Thomas W. Paterson (Applicants) plan to implement conservation measures on Spur Ranch, a 309 acre parcel of land northeast of Luna, Catron County, New Mexico. The conservation measures will improve riverine, riparian, and upland habitat through improving water quality, reducing sedimentation, and establishment of native riparian vegetation. The SHA as currently written is expected to provide a net conservation benefit to the five species for which it is written. The SHA will provide protection to the Applicants against further regulation under the Endangered Species Act in the event that any of the covered species should occupy the Patersons' land as a result of implementation of the proposed conservation measures.

Section 9 of the Act prohibits the “taking” of threatened or endangered species. However, the Service, under limited circumstances, may issue permits to take threatened and endangered wildlife species incidental to, and not the purpose of, otherwise lawful activities. Regulations governing permits for endangered species are at 50 CFR 17.22 and 50 CFR 17.22 for threatened species.

Thomas L. Bauer,
Acting Regional Director, Region 2, Albuquerque, New Mexico.

[FR Doc. 01-11756 Filed 5-9-01; 8:45 am]

BILLING CODE 4510-55-P